DEPARTMENT OF THE INTERIOR

Bureau of Indian Affairs

[120D0102DR/DS5A300000/DR.5A311.IA000118]

Land Acquisitions; Agua Caliente Band of Cahuilla Indians of the Agua Caliente Indian Reservation, California

AGENCY: Bureau of Indian Affairs, Interior.

ACTION: Notice.

SUMMARY: The Assistant Secretary—Indian Affairs made a final agency determination to acquire 13.3 acres, more or less, of land in trust for the Agua Caliente Band of Cahuilla Indians of the Agua Caliente Indian Reservation, California, for gaming and other purposes on October 7, 2019.

FOR FURTHER INFORMATION CONTACT: Ms. Paula L. Hart, Director, Office of Indian Gaming, Bureau of Indian Affairs, MS-3657 MIB, 1849 C Street NW, Washington, DC 202240, telephone (202) 219-4066.

SUPPLEMENTARY INFORMATION: This notice is published in the exercise of authority delegated by the Secretary of the Interior to the Assistant Secretary—Indian Affairs by 209 Departmental Manual 8.1, and is published to comply with the requirements of 25 CFR 151.12(c)(2)(ii) that notice of the decision to acquire land in trust be promptly provided in the Federal Register.

On October 7, 2019 the Assistant Secretary—Indian Affairs made a final agency determination to transfer the Section 33 Parcel consisting of approximately 13.3 acres, more or less, into trust for the Agua Caliente Band of Cahuilla Indians of the Agua Caliente Indian Reservation, California (Tribe), pursuant to the Indian Reorganization Act of 1934, 25 U.S.C. 5108. The Assistant Secretary—Indian Affairs also determined that the Tribe's request also meets the requirements of the Indian Gaming Regulatory Act's “contiguous lands” exception, 25 U.S.C. 2719(b)(1)(a), to the general prohibition contained in 25 U.S.C. 2719(a) on gaming on lands acquired in trust after October 17, 1988.

The Assistant Secretary—Indian Affairs, on behalf of the Secretary of the Interior, will immediately acquire title to the Section 33 Parcel, in the name of the United States of America in Trust for the Agua Caliente Band of Cahuilla Indians of the Agua Caliente Indian Reservation, California, upon fulfillment of Departmental requirements. The 13.3 acres, more or less, are described as follows:

Legal Description of Property

Correction No. 2 to Grant Deed recorded May 31, 2019 as Instrument No. 2019-0195673 of Official Records.

PARCEL 1: (APN: 687-202-022)

LOT 49 OF CATHEDRAL CITY, AS SHOWN BY MAP ON FILE IN BOOK 13, PAGES 24, 25 AND 26 OF MAPS, RECORDS OF RIVERSIDE COUNTY, CALIFORNIA.

EXCEPTING THEREFROM, THAT PORTION DESCRIBED IN DEED TO THE COUNTY OF RIVERSIDE, RECORDED ON JANUARY 15, 1973, AS INSTRUMENT NO. 5715 OF OFFICIAL RECORDS.

PARCEL 2: (APN: 687-208-027 and -028)

LOTS 95, 96, 97, 98, 99 AND 100 OF CATHEDRAL CITY, AS SHOWN BY MAP ON FILE IN BOOK 13, PAGES 24, 25 AND 26 OF MAPS, RECORDS OF RIVERSIDE COUNTY, CALIFORNIA.

TOGETHER WITH THAT PORTION OF 20.00 FOOT ALLEY, VACATED AND CLOSED TO PUBLIC USE BY RESOLUTION NO. 79-346, OF THE COUNTY OF RIVERSIDE, RECORDED NOVEMBER 21, 1979 AS INSTRUMENT NO. 248832 OF OFFICIAL RECORDS.

EXCEPTING THEREFROM, THAT PORTION DESCRIBED IN DEED TO THE CITY OF CATHEDRAL CITY, RECORDED OCTOBER 30, 1997 AS INSTRUMENT NO. 395119 OF OFFICIAL RECORDS, AND EXCEPTING THAT PORTION DESCRIBED IN DEED TO THE COUNTY OF RIVERSIDE, RECORDED MAY 18, 1977 AS INSTRUMENT NO. 89251 OF OFFICIAL RECORDS.

PARCEL 3: (APN: 687-201-012)

THE WEST 50.00 FEET OF THE EAST 100.00 FEET OF THE NORTH HALF OF LOT 45 OF CATHEDRAL CITY, AS SHOWN BY MAP ON FILE IN BOOK 13, PAGES 24, 25 AND 26 OF MAPS, RECORDS OF RIVERSIDE COUNTY, CALIFORNIA.

PARCEL 4: (APN: 687-201-013)

THE EAST 50.00 FEET OF THE NORTH 87.50 FEET OF LOT 45 OF CATHEDRAL CITY, AS SHOWN BY MAP ON FILE IN BOOK 13, PAGES 24, 25 AND 26 OF MAPS, RECORDS OF RIVERSIDE COUNTY, CALIFORNIA.

PARCEL 5: (APN: 687-201-007)

THE SOUTH 87.50 FEET OF THE EAST 100 FEET OF LOT 45 OF CATHEDRAL CITY, AS SHOWN BY MAP ON FILE IN BOOK 13, PAGES 24, 25 AND 26 OF MAPS, RECORDS OF RIVERSIDE COUNTY, CALIFORNIA.

PARCEL 6: (APN: 687-201-014)

THE NORTH 87.50 FEET OF THE WEST 50.00 FEET OF LOT 46 OF CATHEDRAL CITY, AS SHOWN BY MAP ON FILE IN BOOK 13, PAGES 24, 25 AND 26 OF MAPS, RECORDS OF RIVERSIDE COUNTY, CALIFORNIA.

PARCEL 7: (APN: 687-201-015)

THE EAST HALF OF THE NORTHWEST QUARTER OF LOT 46 OF CATHEDRAL CITY, AS SHOWN BY MAP ON FILE IN BOOK 13, PAGES 24, 25 AND 26 OF MAPS, RECORDS OF RIVERSIDE COUNTY, CALIFORNIA.

PARCEL 8: (APN: 687-201-010)

THE SOUTHWEST QUARTER OF LOT 46 OF CATHEDRAL CITY, AS SHOWN BY MAP ON FILE IN BOOK 13, PAGES 24, 25 AND 26, OF MAPS, RECORDS OF RIVERSIDE COUNTY, CALIFORNIA.

PARCEL 9: (APN: 687-201-016)

THE EAST 100.00 FEET OF LOT 46 OF CATHEDRAL CITY, AS SHOWN BY MAP ON FILE IN BOOK 13, PAGES 24, 25 AND 26 OF MAPS, RECORDS OF RIVERSIDE COUNTY, CALIFORNIA.

PARCEL 10: (APN: 687-202-016)

THE WESTERLY 85.00 FEET OF THE NORTH HALF OF LOT 47 OF CATHEDRAL CITY, AS SHOWN BY MAP ON FILE IN BOOK 13, PAGES 24, 25 AND 26 OF MAPS, RECORDS OF RIVERSIDE COUNTY, CALIFORNIA.

PARCEL 11: (APN: 687-202-002)

THE WEST 85.00 FEET OF THE NORTH HALF OF THE SOUTH HALF OF LOT 47 OF CATHEDRAL CITY, AS SHOWN BY MAP ON FILE IN BOOK 13, PAGES 24, 25 AND 26 OF MAPS, RECORDS OF RIVERSIDE COUNTY, CALIFORNIA.

PARCEL 12: (APN: 687-202-003)

THE WESTERLY 85.00 FEET OF THE SOUTH HALF OF THE SOUTH HALF OF LOT 47 OF CATHEDRAL CITY, AS SHOWN BY MAP ON FILE IN BOOK 13, PAGES 24, 25 AND 26 OF MAPS, RECORDS OF RIVERSIDE COUNTY, CALIFORNIA.

PARCEL 13: (APN: 687-202-017)

THE WESTERLY 55.00 FEET OF THE EAST 115.00 FEET OF THE NORTH HALF OF LOT 47 OF CATHEDRAL CITY, AS SHOWN BY MAP ON FILE IN BOOK 13, PAGES 24, 25 AND 26 OF MAPS, RECORDS OF RIVERSIDE COUNTY, CALIFORNIA.

PARCEL 14: (APN: 687-202-005)

THE SOUTH HALF OF LOT 47 OF CATHEDRAL CITY, AS SHOWN BY MAP ON FILE IN BOOK 13, PAGES 24, 25 AND 26, OF MAPS, RECORDS OF RIVERSIDE COUNTY, CALIFORNIA.

EXCEPT THE WESTERLY 85.00 FEET THEREOF AND ALSO EXCEPT THE EASTERLY 50.00 FEET THEREOF.

PARCEL 15: (APN: 687-202-018)

THE EAST 60.00 FEET OF THE NORTH HALF OF LOT 47 OF CATHEDRAL CITY, AS SHOWN BY MAP ON FILE IN BOOK 13, PAGES 24, 25 AND 26 OF MAPS, RECORDS OF RIVERSIDE COUNTY, CALIFORNIA.

PARCEL 16: (APN: 687-202-007)

THE EAST 50.00 FEET OF SOUTH HALF OF LOT 47 OF CATHEDRAL CITY, AS SHOWN BY MAP ON FILE IN BOOK 13, PAGES 24, 25 AND 26 OF MAPS, RECORDS OF RIVERSIDE COUNTY, CALIFORNIA.

PARCEL 17: (APN: 687-202-019)

THE WEST 40.00 FEET OF THE NORTH HALF OF LOT 48 OF CATHEDRAL CITY, AS SHOWN BY MAP ON FILE IN BOOK 13, PAGES 24, 25 AND 26 OF MAPS, RECORDS OF RIVERSIDE COUNTY, CALIFORNIA.

PARCEL 18: (APN: 687-202-009)

THE WEST 50.00 FEET OF THE SOUTH 87.50 FEET OF LOT 48 OF CATHEDRAL CITY, AS SHOWN BY MAP ON FILE IN BOOK 13, PAGES 24, 25 AND 26 OF MAPS, RECORDS·OF RIVERSIDE COUNTY, CALIFORNIA.

PARCEL 19: (APN: PORTION 687-202-020)

THE EAST 60.00 FEET OF THE WEST 100.00 FEET OF THE NORTH HALF OF LOT 48 OF CATHEDRAL CITY, AS SHOWN BY MAP ON FILE IN BOOK 13, PAGES 24, 25 AND 26 OF MAPS, RECORDS OF RIVERSIDE COUNTY, CALIFORNIA.

PARCEL 20: (APN: PORTION 687-202-020)

THE NORTH 8.50 FEET OF THE EAST 50.00 FEET OF THE SOUTH 87.50 FEET OF THE WEST 100.00 FEET OF LOT 48 OF CATHEDRAL CITY, AS SHOWN BY MAP ON FILE IN BOOK 13, PAGES 24, 25 AND 26 OF MAPS, RECORDS OF RIVERSIDE COUNTY, CALIFORNIA.

PARCEL 21: (APN: 687-202-011)

THE EAST 50.00 FEET OF THE SOUTH 79.00 FEET OF THE WEST 100.00 FEET OF LOT 48 OF CATHEDRAL CITY, AS SHOWN BY MAP ON FILE IN BOOK 13, PAGES 24, 25 AND 26 OF MAPS, RECORDS OF RIVERSIDE COUNTY, CALIFORNIA.

PARCEL 22: (APN: 687-202-021)

THE EAST 100.00 FEET OF LOT 48 OF CATHEDRAL CITY, AS SHOWN BY MAP ON FILE IN BOOK 13, PAGES 24, 25 AND 26 OF MAPS, RECORDS OF RIVERSIDE COUNTY, CALIFORNIA.

PARCEL 23: (APN: 687-203-008)

THE NORTH HALF OF LOT 66 OF CATHEDRAL CITY, AS SHOWN BY MAP ON FILE IN BOOK 13, PAGES 24, 25 AND 26 OF MAPS, RECORDS OF RIVERSIDE COUNTY, CALIFORNIA.

PARCEL 24: (APN: 687-203-009)

THE SOUTH HALF OF LOT 66 OF CATHEDRAL CITY, AS SHOWN BY MAP ON FILE IN BOOK 13, PAGES 24, 25 AND 26 OF MAPS, RECORDS OF RIVERSIDE COUNTY, CALIFORNIA.

PARCEL 25: (APN: 687-203-010)

LOT 65 OF CATHEDRAL CITY, AS SHOWN BY MAP ON FILE IN BOOK 13, PAGES 24, 25 AND 26 OF MAPS, RECORDS OF RIVERSIDE COUNTY, CALIFORNIA.

PARCEL 26: (APN: 687-203-011)

LOT 64 OF CATHEDRAL CITY AS SHOWN BY MAP ON FILE IN BOOK 13, PAGES 24, 25 AND 26 OF MAPS, RECORDS OF RIVERSIDE COUNTY, CALIFORNIA.

PARCEL 27: (APN: 687-203-012)

THE NORTH HALF OF LOT 63 OF CATHEDRAL CITY, AS SHOWN BY MAP ON FILE IN BOOK 13, PAGES 24, 25 AND 26 OF MAPS, RECORDS OF RIVERSIDE COUNTY, CALIFORNIA.

PARCEL 28: (APN: 687-203-013)

THE SOUTH HALF OF LOT 63 OF CATHEDRAL CITY, AS SHOWN BY MAP ON FILE IN BOOK 13, PAGES 24, 25 AND 26 OF MAPS, RECORDS OF RIVERSIDE COUNTY, CALIFORNIA.

PARCEL 29: (APN: 687-203-014)

LOT 62 OF CATHEDRAL CITY, AS SHOWN BY MAP ON FILE IN BOOK 13, PAGES 24, 25 AND 26 OF MAPS, RECORDS OF RIVERSIDE COUNTY, CALIFORNIA.

PARCEL 30: (APN: 687-203-015)

THE NORTH 65.00 FEET OF LOT 67 OF CATHEDRAL CITY, AS SHOWN BY MAP ON FILE IN BOOK 13, PAGES 24, 25 AND 26 OF MAPS, RECORDS OF RIVERSIDE COUNTY, CALIFORNIA.

PARCEL 31: (APN: 687-204-001)

LOT 61 OF CATHEDRAL CITY, AS SHOWN BY MAP ON FILE IN BOOK 13, PAGES 24, 25 AND 26 OF MAPS, RECORDS OF RIVERSIDE COUNTY, CALIFORNIA.

PARCEL 32: (APN: 687-204-002)

THE NORTH 85.00 FEET OF LOT 60 OF CATHEDRAL CITY, AS SHOWN BY MAP ON FILE IN BOOK 13, PAGES 24, 25 AND 26 OF MAPS, RECORDS OF RIVERSIDE COUNTY, CALIFORNIA.

PARCEL 33: (APN: 687-204-003)

THE SOUTH 65.00 FEET OF LOT 60 OF CATHEDRAL CITY, AS SHOWN BY MAP ON FILE IN BOOK 13, PAGES 24, 25 AND 26 OF MAPS, RECORDS OF RIVERSIDE COUNTY, CALIFORNIA.

PARCEL 34: (APN: 687-204-004)

THE NORTH HALF OF LOT 59 OF CATHEDRAL CITY, AS SHOWN BY MAP ON FILE IN BOOK 13, PAGES 24, 25 AND 26 OF MAPS, RECORDS OF RIVERSIDE COUNTY, CALIFORNIA.

PARCEL 35: (APN: 687-204-005)

THE SOUTH HALF OF LOT 59 OF CATHEDRAL CITY, AS SHOWN BY MAP ON FILE IN BOOK 13, PAGES 24, 25 AND 26 OF MAPS, RECORDS OF RIVERSIDE COUNTY, CALIFORNIA.

PARCEL 36: (APN: 687-204-006)

THE NORTH HALF OF LOT 58 OF CATHEDRAL CITY, AS SHOWN BY MAP ON FILE IN BOOK 13, PAGES 24, 25 AND 26 OF MAPS, RECORDS OF RIVERSIDE COUNTY, CALIFORNIA.

PARCEL 37: (APN: 687-204-007)

THE SOUTH HALF OF LOT 58 OF CATHEDRAL CITY, AS SHOWN BY MAP ON FILE IN BOOK 13, PAGES 24, 25 AND 26 OF MAPS, RECORDS OF RIVERSIDE COUNTY, CALIFORNIA.

PARCEL 38: (APN: 687-204-008 and -013)

THE NORTH HALF OF LOTS 56 AND 57 OF CATHEDRAL CITY, AS SHOWN BY MAP ON FILE IN BOOK 13, PAGES 24, 25 AND 26 OF MAPS, RECORDS OF RIVERSIDE COUNTY, CALIFORNIA.

TOGETHER WITH THE WESTERLY HALF OF THE ALLEY ADJOINING SAID LOT 56 ON THE EAST AS VACATED AND CLOSED TO PUBLIC USE BY RESOLUTION NO. 80-367, RECORDED OCTOBER 23, 1980 AS INSTRUMENT NO. 197351 OF OFFICIAL RECORDS OF RIVERSIDE COUNTY, CALIFORNIA.

PARCEL 39: (APN: 687-204-009 and -014)

THE SOUTH HALF OF LOTS 56 AND 57 OF CATHEDRAL CITY, AS SHOWN BY MAP ON FILE IN BOOK 13, PAGES 24, 25 AND 26 OF MAPS, RECORDS OF RIVERSIDE COUNTY, CALIFORNIA.

TOGETHER WITH THE WESTERLY HALF OF THE ALLEY ADJOINING SAID LOT 56 ON THE EAST AS VACATED AND CLOSED TO PUBLIC USE BY RESOLUTION NO. 80-367, RECORDED OCTOBER 23, 1980 AS INSTRUMENT NO. 197351 OF OFFICIAL RECORDS OF RIVERSIDE COUNTY, CALIFORNIA.

PARCEL 40: (APN: 687-204-017)

LOTS 50, 51, 52, 53, 54 AND 55 OF CATHEDRAL CITY, AS SHOWN BY MAP ON FILE IN BOOK 13, PAGES 24, 25 AND 26 OF MAPS, RECORDS OF RIVERSIDE COUNTY, CALIFORNIA.

TOGETHER WITH THE EAST HALF OF THAT PORTION OF LOT H (ALLEY) ADJOINING SAID LOT 55 ON THE WEST, VACATED BY THE BOARD OF SUPERVISORS OF THE COUNTY OF RIVERSIDE, RESOLUTION NO. 80-367, RECORDED OCTOBER 23, 1980 AS INSTRUMENT NO. 197351 OF OFFICIAL RECORDS OF RIVERSIDE COUNTY, CALIFORNIA.

PARCEL 41: (APN: 687-206-001; -002 and -003)

LOT 83, 84 AND 85 OF CATHEDRAL CITY, AS SHOWN BY MAP ON FILE IN BOOK 13 PAGES 24, 25 AND 26 OF MAPS, RECORDS OF RIVERSIDE COUNTY, CALIFORNIA.

PARCEL 42: (APN: 687-206-004)

LOT 86 OF CATHEDRAL CITY, AS SHOWN BY MAP ON FILE IN BOOK 13, PAGES 24, 25 AND 26 OF MAPS, RECORDS OF RIVERSIDE COUNTY, CALIFORNIA.

PARCEL 43: (APN: 687-206-005)

THAT PORTION OF LOT 87 OF CATHEDRAL CITY, AS SHOWN BY MAP ON FILE IN BOOK 13, PAGES 24, 25 AND 26 OF MAPS, RECORDS OF RIVERSIDE COUNTY, CALIFORNIA, DESCRIBED AS FOLLOWS:

BEGINNING AT THE NORTHWEST CORNER OF SAID LOT 87; THENCE EAST ON THE NORTH LINE THEREOF, 40.00 FEET; THENCE SOUTH 30.00 FEET; THENCE SOUTHWESTERLY, ON A LINE TO A POINT 20.00 FEET EAST OF THE WEST LINE OF SAID LOT, AND 40.00 FEET SOUTH OF THE NORTH LINE OF SAID LOT; THENCE SOUTH 10.00 FEET; THENCE WEST 20.00 FEET TO THE WEST LINE OF SAID LOT; THENCE NORTH ON THE WEST LINE OF SAID LOT 50.00 FEET TO THE POINT OF BEGINNING.

PARCEL 44: (APN: 687-206-006)

THAT PORTION OF LOTS 87 AND 88 OF CATHEDRAL CITY, AS SHOWN BY MAP ON FILE IN BOOK 13, PAGE 24, 25 AND 26 OF MAPS, RECORDS OF RIVERSIDE COUNTY, CALIFORNIA, DESCRIBED AS FOLLOWS:

BEGINNING AT THE SOUTHWEST CORNER OF SAID LOT 87; THENCE NORTHERLY ON THE WESTERLY LINE OF SAID LOT, 50.00 FEET, MORE OR LESS, TO THE SOUTHWEST CORNER OF THAT CERTAIN PARCEL OF LAND CONVEYED TO OLIVER D. WENGER, ET UX, IN DEED RECORDED NOVEMBER 4, 1937 IN BOOK 353, PAGE 32 OF OFFICIAL RECORDS OF RIVERSIDE COUNTY, CALIFORNIA; THENCE EASTERLY ON THE SOUTHERLY LINE OF SAID PARCEL CONVEYED TO OLIVER D. WENGER, 20.00 FEET; THENCE NORTHERLY ON THE EASTERLY LINE OF SAID PARCEL, 10.00 FEET; THENCE IN A NORTHEASTERLY DIRECTION, 22.00 FEET, MORE OR LESS, TO A POINT IN THE MOST EASTERLY LINE OF SAID PARCEL CONVEYED TO OLIVER D. WENGER, THAT IS 30.00 FEET SOUTHERLY FROM THE NORTHERLY LINE OF SAID LOT 87, SAID POINT BEING IN THE WESTERLY LINE OF THAT CERTAIN PARCEL OF LAND CONVEYED TO ERNEST NORTH SMITH, IN DEED RECORDED DECEMBER 9, 1947 IN BOOK 878, PAGE 217 OF OFFICIAL RECORDS OF RIVERSIDE COUNTY, CALIFORNIA; THENCE SOUTHERLY ON THE WESTERLY LINE OF SAID PARCEL CONVEYED TO ERNEST NORTH SMITH, 8.00 FEET, MORE OR LESS, TO THE SOUTHWESTERLY CORNER THEREOF; THENCE EASTERLY ON THE SOUTHERLY LINE OF SAID PARCEL CONVEYED TO ERNEST NORTH SMITH, 20.00 FEET, MORE OR LESS, TO THE SOUTHEASTERLY CORNER THEREOF; SAID POINT BEING ON THE WESTERLY LINE OF THAT CERTAIN PARCEL OF LAND CONVEYED TO JOSEPH LAWRENCE, SR., ET UX, IN DEED RECORDED JANUARY 09, 1948 IN BOOK 877, PAGE 549 OF OFFICIAL RECORDS OF RIVERSIDE COUNTY RECORDS, CALIFORNIA; THENCE SOUTHERLY ON THE WESTERLY LINE OF SAID PARCEL CONVEYED TO JOSEPH LAWRENCE, SR., AND THE WESTERLY LINE OF THAT CERTAIN PARCEL OF LAND CONVEYED TO HAROLD A. SMITH A SINGLE MAN, IN DEED RECORDED NOVEMBER 10, 1947 IN BOOK 872, PAGE 386 OF OFFICIAL RECORDS OF RIVERSIDE COUNTY, CALIFORNIA, 62.00 FEET, MORE OR LESS, TO A POINT ON THE SOUTHERLY LINE OF SAID LOT 88; THENCE WESTERLY ON THE SOUTHERLY LINE OF SAID LOTS 88 AND 87, 60.00 FEET, MORE OR LESS, TO THE POINT OF BEGINNING.

PARCEL 45: (APN: 687-206-007)

THOSE PORTIONS OF LOTS 87 AND 88 OF CATHEDRAL CITY, AS SHOWN BY MAP ON FILE IN BOOK 13 PAGES 24, 25 AND 26 OF MAPS, RECORDS OF RIVERSIDE COUNTY CALIFORNIA, DESCRIBED AS FOLLOWS:

BEGINNING AT THE NORTHEAST CORNER OF LOT 87; THENCE WEST ON THE NORTH LINE OF LOT 87, 10.00 FEET; THENCE SOUTH 38.00 FEET; THENCE EAST 20.00 FEET; THENCE SOUTH 12.00 FEET; THENCE EAST 40.00 FEET TO THE EAST LINE OF LOT 88; THENCE NORTH 50.00 FEET TO THE NORTHEAST CORNER OF LOT 88; THENCE WEST ON THE NORTH LINE OF LOT 88, 50.00 FEET TO THE POINT OF BEGINNING.

PARCEL 46: (APN: 687-206-008)

THE EAST 40.00 FEET OF THE SOUTH 50.00 FEET OF LOT 88 OF CATHEDRAL CITY, AS SHOWN BY MAP ON FILE IN BOOK 13, PAGES 24, 25 AND 26 OF MAPS, RECORDS OF RIVERSIDE COUNTY, CALIFORNIA.

PARCEL 47: (APN: 687-206-009 and -010)

LOTS 89 AND 90 OF CATHEDRAL CITY, AS SHOWN BY MAP ON FILE IN BOOK 13 PAGES 24, 25 AND 26 OF MAPS, RECORDS OF RIVERSIDE COUNTY, CALIFORNIA.

PARCEL 48: (APN: 687-206-011)

THE NORTH 58.00 FEET OF LOT 91 OF CATHEDRAL CITY, AS SHOWN BY MAP ON FILE IN BOOK 13, PAGES 24, 25 AND 26 OF MAPS, RECORDS OF RIVERSIDE COUNTY, CALIFORNIA.

PARCEL 49: (APN: 687-206-012)

THE SOUTHERLY 42.00 FEET OF LOT 91 OF CATHEDRAL CITY, AS SHOWN BY MAP ON FILE IN BOOK 13, PAGES 24, 25 AND 26 OF MAPS, RECORDS OF RIVERSIDE COUNTY, CALIFORNIA.

PARCEL 50: (APN: 687-206-013)

LOT 92 OF CATHEDRAL CITY, AS SHOWN BY MAP ON FILE IN BOOK 13 PAGES 24, 25 AND 26 OF MAPS, RECORDS OF RIVERSIDE COUNTY, CALIFORNIA.

PARCEL 51: (APN: 687-206-014)

THE NORTH 55.00 FEET OF LOT 93 OF CATHEDRAL CITY, AS SHOWN BY MAP ON FILE IN BOOK 13, PAGES 24, 25 AND 26 OF MAPS, RECORDS OF RIVERSIDE COUNTY, CALIFORNIA.

PARCEL 52: (APN: 687-206-015)

THE SOUTH 45.00 FEET OF LOT 93 OF CATHEDRAL CITY, AS SHOWN BY MAP ON FILE IN BOOK 13, PAGES 24, 25 AND 26 OF MAPS, RECORDS OF RIVERSIDE COUNTY, CALIFORNIA.

PARCEL 53: (APN: 687-206-016)

LOT 94 OF CATHEDRAL CITY, AS SHOWN BY MAP ON FILE IN BOOK 13 PAGES 24, 25 AND 26 OF MAPS, RECORDS OF RIVERSIDE COUNTY, CALIFORNIA.

PARCEL 54:

THOSE PORTIONS OF LOT “B” (HILLERY ROAD, FORMERLY FIRST STREET), LOT “G” (ALLEN AVENUE), AND LOT “Y” (HILLERY ROAD, FORMERLY FIRST STREET), AS SHOWN ON THE MAP OF CATHEDRAL CITY, FILED IN BOOK 13, PAGES 24 THROUGH 26, OF MAPS, RECORDS OF RIVERSIDE COUNTY, CALIFORNIA, TOGETHER WITH THOSE CERTAIN ALLEYS LOCATED WITHIN LOTS 45 AND 48 OF SAID CATHEDRAL CITY, AS SHOWN ON SAID MAP, ALL LOCATED WITHIN THE EAST HALF OF SECTION 33, TOWNSHIP 4 SOUTH, RANGE 5 EAST, SAN BERNARDINO MERIDIAN, DESCRIBED AS FOLLOWS:

SEGMENT A:

ALL OF LOT “B” (HILLERY ROAD, FORMERLY FIRST STREET), AS SHOWN ON SAID MAP OF CATHEDRAL CITY.

SEGMENT B:

THAT PORTION OF LOT “G” (ALLEN AVENUE), AS SHOWN ON SAID MAP, BOUNDED ON THE NORTH BY THE WESTERLY PROLONGATION OF THE SOUTH LINE OF LOT “A” (BUDDY ROGERS AVENUE, FORMERLY SECOND STREET), AND BOUNDED ON THE SOUTH BY THE WESTERLY PROLONGATION OF THE NORTH LINE OF LOT “C” (GROVE STREET);

SEGMENT C:

THE EAST 300.00 FEET OF LOT “Y” (HILLERY ROAD, FORMERLY FIRST STREET), AS SHOWN ON SAID MAP.

SEGMENT D:

THE WEST 20.00 FEET OF THE EAST 120.00 FEET OF LOT 45 AS SHOWN ON THE MAP OF CATHEDRAL CITY, FILED IN BOOK 13, PAGES 24 THROUGH 26, INCLUSIVE, OF MAPS, RECORDS OF RIVERSIDE COUNTY, CALIFORNIA, AS SHOWN ON THE MAP FILED IN BOOK 11, PAGE 11 OF RECORDS OF SURVEY, RECORDS OF RIVERSIDE COUNTY.

SEGMENT E:

THE WEST 20.00 FEET OF THE EAST 120.00 FEET OF LOT 48 AS SHOWN ON THE MAP OF CATHEDRAL CITY, FILED IN BOOK 13, PAGES 24 THROUGH 26, INCLUSIVE, OF MAPS, RECORDS OF RIVERSIDE COUNTY, CALIFORNIA, AS SHOWN ON THE MAP FILED IN BOOK 11, PAGE 11 OF RECORDS OF SURVEY, RECORDS OF RIVERSIDE COUNTY.

PARCEL 55: (APN: 687-205-009)

LOTS 78 AND 79 OF CATHEDRAL CITY AS SHOWN BY MAP ON FILE IN BOOK 13, PAGES 24, 25 AND 26 OF MAPS, RECORDS OF RIVERSIDE COUNTY, CALIFORNIA.

EXCEPTING THEREFROM, THAT PORTION CONDEMNED TO THE CITY OF CATHEDRAL CITY, AS DISCLOSED BY DOCUMENT RECORDED MARCH 24, 1999 AS INSTRUMENT NO. 99-121245 AND MAY 17, 1999 AS INSTRUMENT NO. 99-212072, BOTH OF OFFICIAL RECORDS, DESCRIBED AS FOLLOWS:

BEGINNING AT THE SOUTHEAST CORNER OF SAID LOT 79; THENCE ALONG THE EAST LINE OF SAID LOT 79, NORTH 00°04′35″ EAST, 6.42 FEET; THENCE NORTH 71°34′43″ WEST, 158.18 FEET TO THE WEST LINE OF SAID LOT 78; THENCE ALONG THE WEST LINE OF SAID LOT 78, SOUTH 00°01′53″ WEST, 6.42 FEET TO THE SOUTHWEST CORNER OF SAID LOT 78; THENCE ALONG THE SOUTH LINE OF SAID LOTS 78 AND 79, SOUTH 71°34′48″ EAST, 158.18 FEET TO SAID SOUTHEAST CORNER AND THE POINT OF BEGINNING.

PARCEL 56: (APN: 687-205-010)

LOT 80 OF CATHEDRAL CITY, AS SHOWN BY MAP ON FILE IN BOOK 13, PAGES 24, 25 AND 26 OF MAPS, RECORDS OF RIVERSIDE COUNTY, CALIFORNIA.

EXCEPTING THEREFROM, THAT PORTION CONDEMNED TO THE CITY OF CATHEDRAL CITY, AS DISCLOSED BY DOCUMENT RECORDED MARCH 24, 1999 AS INSTRUMENT NO. 99-121245 AND RECORDED MAY 17, 1999 AS INSTRUMENT NO. 212072, BOTH OF OFFICIAL RECORDS, DESCRIBED AS FOLLOWS:

BEGINNING AT THE SOUTHEAST CORNER OF SAID LOT 80; THENCE ALONG THE EAST LINE OF SAID LOT 80, NORTH 00°05′30″ EAST, 8.52 FEET; THENCE NORTH 71°34′43″ WEST, 52.71 FEET TO THE WEST LINE OF SAID LOT 80; THENCE ALONG SAID WEST LINE, SOUTH 00°04′35″ WEST, 8.52 FEET TO THE SOUTH LINE OF SAID LOT 80; THENCE ALONG THE SOUTH LINE OF SAID LOT 80, SOUTH 71°34′48″ EAST, 52.71 FEET TO SAID SOUTHEAST CORNER AND THE POINT OF BEGINNING.

PARCEL 57: (APN: 687-205-011)

LOT 81 OF CATHEDRAL CITY, AS SHOWN BY MAP ON FILE IN BOOK 13, PAGES 24, 25 AND 26 OF MAPS, RECORDS OF RIVERSIDE COUNTY, CALIFORNIA. EXCEPTING THEREFROM, THE EAST 5.00 FEET AND 2.00 INCHES, THEREOF. ALSO EXCEPTING THEREFROM, THAT PORTION CONDEMNED TO THE CITY OF CATHEDRAL CITY, AS DISCLOSED BY DOCUMENT RECORDED MARCH 24, 1999 AS INSTRUMENT NO. 99-121245 AND MAY 17, 1999 AS INSTRUMENT NO. 99-212072, BOTH OF OFFICIAL RECORDS, DESCRIBED AS FOLLOWS:

BEGINNING AT THE SOUTHWEST CORNER OF SAID LOT 81; THENCE ALONG THE WEST LINE OF SAID LOT 81, NORTH 00°05′30″ EAST, 8.52 FEET; THENCE SOUTH 71°34′43″ EAST, 47.24 FEET TO THE WEST LINE OF THE EASTERLY 5.00 FEET 2.00 INCHES OF SAID LOT 81; THENCE ALONG LAST SAID WEST LINE, SOUTH 00°06′25″ WEST, 6.52 FEET TO THE SOUTH LINE OF SAID LOT 81; THENCE ALONG THE SOUTH LINE OF SAID LOT 81, NORTH 71°34′48″ WEST, 47.24 FEET TO SAID SOUTHWEST CORNER AND THE POINT OF BEGINNING.

PARCEL 58: (APN: 687-205-012)

LOT 82 AND THE EAST 5.00 FEET AND 2.00 INCHES OF LOT 81 OF CATHEDRAL CITY, AS SHOWN BY MAP ON FILE IN BOOK 13, PAGES 24, 25 AND 26 OF MAPS, RECORDS OF RIVERSIDE COUNTY, CALIFORNIA, SAID DISTANCE BEING MEASURED ON THE NORTHERLY LINE OF SAID LOT 81.

EXCEPTING THEREFROM, THAT PORTION CONDEMNED TO THE CITY OF CATHEDRAL CITY, AS DISCLOSED BY DOCUMENT RECORDED JULY 12, 1999 AS INSTRUMENT NO. 99-310247 OF OFFICIAL RECORDS, DESCRIBED AS FOLLOWS: BEGINNING AT THE NORTHEAST CORNER OF SAID LOT 82; THENCE ALONG THE NORTH LINE OF SAID LOT 82, NORTH 89°53′57″ WEST, 4.00 FEET TO A LINE THAT IS PARALLEL WITH AND DISTANCE 4.00 FEET WESTERLY, MEASURED AT RIGHT ANGLES, FROM THE EASTERLY LINE OF SAID LOT; THENCE ALONG SAID PARALLEL LINE, SOUTH 00°07′29″ WEST, 137.59 FEET; THENCE SOUTH 63°01′46″ WEST, 6.24 FEET; THENCE NORTH 71°34′43″ WEST, 48.10 FEET TO THE WESTERLY LINE OF THE EASTERLY 5.00 FEET AND 2.00 INCHES OF SAID LOT 81; THENCE ALONG LAST SAID LINE SOUTH 00°07′01″ WEST, 6.41 FEET TO THE SOUTHERLY LINE OF SAID LOT 81; THENCE ALONG THE SOUTHERLY LINE OF SAID LOT 81 SOUTH 71°34′48″ EAST, 1.84 FEET TO AN ANGLE POINT IN THE NORTHERLY LINE OF EAST PALM CANYON DRIVE; THENCE ALONG THE SOUTHERLY LINE OF SAID LOT 81 AND 82 SOUTH 71°36′27″ EAST, 56.31 FEET TO THE SOUTHEAST CORNER OF SAID LOT 82; THENCE ALONG THE EAST LINE OF SAID LOT 82, NORTH 00°07′29″ EAST, 149.98 FEET TO THE POINT OF BEGINNING.

PARCEL 59:

THOSE PORTIONS OF LOT “C” (GROVE STREET), LOT “D” (GROVE STREET), LOT “E” (DAWES STREET), LOT “F” (DAWES STREET), LOT “G” (ALLEN AVENUE), LOT “H” (ALLEY LOT), LOT “I” (DATE PALM DRIVE), AND LOT “X” (GROVE STREET), AS SHOWN ON THE MAP OF CATHEDRAL CITY, FILED IN BOOK 13, AT PAGES 24 THROUGH 26 OF MAPS, RECORDS OF RIVERSIDE COUNTY, CALIFORNIA, ALL LOCATED WITHIN THE EAST HALF OF THE EAST HALF OF SECTION 33, TOWNSHIP 4 SOUTH, RANGE 5 EAST, SAN BERNARDINO MERIDIAN, DESCRIBED AS FOLLOWS:

SEGMENT 1:

ALL OF LOT “C” (GROVE STREET), AS SHOWN ON SAID MAP OF CATHEDRAL CITY.

SEGMENT 2:

ALL OF LOT “D” (GROVE STREET), AS SHOWN ON SAID MAP.

SEGMENT 3:

THE EAST 250 FEET OF LOT “X” (GROVE STREET), AS SHOWN ON SAID MAP.

SEGMENT 4:

ALL OF LOT “E” (DAWES STREET), AS SHOWN ON SAID MAP.

SEGMENT 5:

ALL OF LOT “F” (DAWES STREET), AS SHOWN ON SAID MAP.

SEGMENT 6:

THAT PORTION OF LOT “G” (ALLEN AVENUE), AS SHOWN ON SAID MAP, BOUNDED ON THE NORTH BY THE WESTERLY PROLONGATION OF THE NORTH LINE OF LOT “C” (GROVE STREET), AND BOUNDED SOUTHWESTERLY BY A LINE PARALLEL WITH AND LOCATED NORTHEASTERLY 67.54 FEET, MEASURED AT RIGHT ANGLES, FROM THE CENTERLINE OF BROADWAY, AS SHOWN ON SAID MAP.

SEGMENT 7:

THAT PORTION OF LOT “H” (ALLEY), AS SHOWN ON SAID MAP, BOUNDED ON THE NORTH BY THE EASTERLY PROLONGATION OF THE NORTH LINE OF LOT “C” (GROVE STREET) AND BOUNDED ON THE SOUTH BY THE EASTERLY PROLONGATION OF THE SOUTH LINE OF SAID LOT “F” (DAWES STREET).

SEGMENT 8:

ALL OF LOT “I” (DATE PALM DRIVE), AS SHOWN ON SAID MAP OF CATHEDRAL CITY.

Correction to Quitclaim Deed recorded February 21, 2019 as Instrument No. 2019-0058438 of Official Records.

PARCEL 60: (PARCEL A)

THAT PORTION OF LOT 49 OF CATHEDRAL CITY, AS SHOWN BY MAP ON FILE IN BOOK 13, PAGES 24 THROUGH 26 OF MAPS, RECORDS OF RIVERSIDE COUNTY, CALIFORNIA, DESCRIBED IN DEED TO THE COUNTY OF RIVERSIDE, RECORDED ON JANUARY 15, 1973 AS INSTRUMENT NO. 5715, OF OFFICIAL RECORDS, DESCRIBED AS FOLLOWS:

PARCEL 1: THE NORTHERLY 10.00 FEET OF THE EASTERLY 80.00 FEET OF SAID LOT 49 OF CATHEDRAL CITY, AS SHOWN BY MAP ON FILE IN BOOK 13, PAGES 24 THROUGH 26 OF MAPS, RECORDS OF RIVERSIDE COUNTY, CALIFORNIA.

PARCEL 2: A TRIANGULAR SHAPED PARCEL OF LAND LYING WITHIN SAID LOT 49 OF CATHEDRAL CITY, BOUNDED AS FOLLOWS:

BOUNDED ON THE NORTH BY THE SOUTHERLY LINE OF PARCEL 1 ABOVE DESCRIBED; AND BOUNDED ON THE EAST BY THE EASTERLY LINE OF SAID LOT 49; AND BOUNDED ON THE SOUTHWEST BY THE ARC OF A 20.00 FOOT RADIUS CURVE CONCAVE SOUTHWESTERLY AND BEING TANGENT TO EACH OF THE LAST TWO ABOVE DESCRIBED BOUNDARIES.

PARCEL 61: (PARCEL B)

THAT PORTION OF LOT 95 OF CATHEDRAL CITY, AS SHOWN BY MAP ON FILE IN BOOK 13, PAGES 24 THROUGH 26 OF MAPS, RECORDS OF RIVERSIDE COUNTY, CALIFORNIA, DESCRIBED IN DEED TO THE COUNTY OF RIVERSIDE, RECORDED ON MAY 18, 1977, AS INSTRUMENT NO. 89251, IN OFFICIAL RECORDS, DESCRIBED AS FOLLOWS:

PARCEL 1: BEGINNING AT THE NORTHEAST CORNER OF SAID LOT 95; THENCE, ALONG THE NORTH LINE OF SAID LOT 95, NORTH 89°54′00″ WEST, 13.00 FEET; THENCE SOUTH 31°39′54″ EAST, 24.70 FEET TO A POINT IN THE EAST LINE OF SAID LOT 95; THENCE ALONG SAID EAST LINE NORTH 00°05′00″ EAST, 21.00 FEET TO THE POINT OF BEGINNING.

PARCEL 2: BEGINNING AT THE SOUTHEAST CORNER OF SAID LOT 95; THENCE ALONG THE EAST LINE OF SAID LOT 95, NORTH 00°05′00″ EAST, 22, 21 FEET; THENCE SOUTH 48°45′02″ WEST, 24.43 FEET TO A POINT ON THE SOUTHERLY LINE OF SAID LOT 95; THENCE ALONG SAID SOUTHERLY LINE SOUTH 71°35′00″ EAST, 19.33 FEET TO THE POINT OF BEGINNING.

PARCEL 62: (PARCEL C)

THOSE PORTIONS OF LOTS 101, 102 AND 103, AND LOT “F” (DAWES STREET) OF CATHEDRAL CITY, AS SHOWN BY MAP ON FILE IN BOOK 13, PAGES 24 THROUGH 26 OF MAPS, RECORDS OF RIVERSIDE COUNTY, CALIFORNIA, CONVEYED TO THE CITY OF CATHEDRAL CITY, BY DEED RECORDED MAY 12, 1982 AS INSTRUMENT NO. 81733 OF OFFICIAL RECORDS, DESCRIBED AS FOLLOWS:

PARCEL 1: THE NORTH 5.00 FEET OF LOTS 101, 102, AND 103 OF CATHEDRAL CITY, AS SHOWN BY MAP ON FILE IN BOOK 13, PAGES 24 THROUGH 26 OF MAPS, RECORDS OF RIVERSIDE COUNTY, CALIFORNIA.

PARCEL 2: THAT PORTION OF SAID LOT “F”, 40 FEET WIDE, APPURTENANT TO SAID LOTS 101, 102, AND 103.

PARCEL 63: (PARCEL D)

THAT PORTION OF LOT 82, OF CATHEDRAL CITY, AS SHOWN BY MAP ON FILE IN BOOK 13, PAGE 24 THROUGH 26 OF MAPS, RECORDS OF RIVERSIDE COUNTY, CALIFORNIA, DESCRIBED AS “PARCEL 687-205-004” IN THAT CERTAIN JUDGMENT AND FINAL ORDER OF CONDEMNATION RECORDED JULY 12, 1999 AS INSTRUMENT NO. 99-310247 OF OFFICIAL RECORDS, LYING NORTHERLY OF A LINE PARALLEL WITH AND LOCATED NORTHEASTERLY 67.54 FEET, MEASURED AT RIGHT ANGLES, FROM THE CENTERLINE OF BROADWAY, AS SHOWN ON SAID MAP.

PARCEL 64: (PARCEL E)

THAT PORTION OF LOT 104, OF CATHEDRAL CITY, AS SHOWN BY MAP ON FILE BOOK 13, PAGE 24 THROUGH 26 OF MAPS, RECORDS OF RIVERSIDE COUNTY, CALIFORNIA, ACQUIRED BY THE CITY OF CATHEDRAL CITY BY GRANT DEED RECORDED FEBRUARY 24, 1997 AS INSTRUMENT NO. 97-60589 OF OFFICIAL RECORDS OF RIVERSIDE COUNTY, CALIFORNIA, DESCRIBED AS FOLLOWS:

BEGINNING AT THE NORTHWEST CORNER OF SAID LOT 104; THENCE ALONG THE NORTH LINE OF SAID LOT, SOUTH 89°53′55″ EAST, 30.01 FEET; THENCE SOUTH 00°05′32″ WEST, 11.21 FEET; THENCE NORTH 71°34′43″ WEST, 31.61 FEET TO A POINT ON THE WEST LINE OF SAID LOT 104; THENCE NORTH 00°05′29″ EAST ALONG THE SAID WEST LINE, 1.27 FEET TO THE POINT OF BEGINNING. RESERVING OVER, UNDER, ACROSS, AND THROUGH THE ABOVE DESCRIBED PARCEL A THROUGH PARCEL E AN EASEMENT AND RIGHT OF WAY IN FAVOR OF THE CITY OF CATHEDRAL CITY FOR PUBLIC HIGHWAY AND PUBLIC UTILITY, DRAINAGE, WATERMAIN, SEWER, AND PUBLIC SERVICES PURPOSES.

Correction No. 2 to Quitclaim Deed recorded May 31, 2019 as Instrument No. 2019-0195712 of Official Records.

PARCEL 65: (PARCEL 1—APN: 687-208-023)

LOTS 101 AND 102 OF CATHEDRAL CITY, AS SHOWN BY MAP ON FILE IN BOOK 13, PAGE 24 THROUGH 26 OF MAPS, RECORDS OF RIVERSIDE COUNTY, CALIFORNIA.

TOGETHER WITH THAT PORTION OF A 20.00 FOOT ALLEY, VACATED AND CLOSED TO PUBLIC USE BY RESOLUTION NO. 79-346, OF THE COUNTY OF RIVERSIDE, RECORDED NOVEMBER 21, 1979 AS INSTRUMENT NO. 248832 OF OFFICIAL RECORDS.

EXCEPTING THEREFROM, THAT PORTION CONVEYED TO THE CITY OF CATHEDRAL CITY, IN DEED RECORDED MAY 12, 1982 AS INSTRUMENT NO. 81733 OF OFFICIAL RECORDS.

EXCEPTING THEREFROM, THAT PORTION CONVEYED TO THE CITY OF CATHEDRAL CITY, IN DEEDS RECORDED AUGUST 31, 1982 AS INSTRUMENT NO. 150864 AND JANUARY 25, 1983 AS INSTRUMENT NO. 15185, BOTH OF OFFICIAL RECORDS.

ALSO EXCEPTING THEREFROM, THAT PORTION CONVEYED TO THE CITY OF CATHEDRAL CITY IN DEED RECORDED NOVEMBER 13, 1997 AS INSTRUMENT NO. 97-416611 OF OFFICIAL RECORDS.

PARCEL 66: (PARCEL 2—APN: 687-208-024)

LOT 103 OF CATHEDRAL CITY, AS SHOWN BY MAP ON FILE IN BOOK 13, PAGE 24 THROUGH 26 OF MAPS, RECORDS OF RIVERSIDE COUNTY, CALIFORNIA.

EXCEPTING THEREFROM, THAT PORTION CONVEYED TO THE CITY OF CATHEDRAL CITY, IN DEEDS AUGUST 31, 1982 AS INSTRUMENT NO. 150864, MAY 12, 1982, AS INSTRUMENT NO. 81733 AND JANUARY 25, 1983 AS INSTRUMENT NO. 15185, ALL OF OFFICIAL RECORDS.

EXCEPTING THEREFROM, THAT PORTION CONVEYED TO THE CITY OF CATHEDRAL CITY IN DEED RECORDED NOVEMBER 13, 1997 AS INSTRUMENT NO. 416611 OF OFFICIAL RECORDS.

PARCEL 67: (PARCEL 3—APN: 687-203-025)

LOT 104 OF CATHEDRAL CITY, AS SHOWN BY MAP ON FILE IN BOOK 13, PAGE 24 THROUGH 26 OF MAPS, RECORDS OF RIVERSIDE COUNTY, CALIFORNIA.

EXCEPTING THEREFROM, THE FOLLOWING DESCRIBED PARCEL OF LAND: BEGINNING AT THE SOUTHWEST CORNER OF SAID LOT 104; THENCE ALONG THE WEST LINE OF SAID LOT NORTH 00°05′29″ EAST, 29.76 FEET TO THE NORTHWEST CORNER THEREOF; THENCE ALONG THE NORTH LINE OF SAID LOT, SOUTH 89°53′55″ EAST, 30.01 FEET; THENCE SOUTH 00°05′32″ WEST, 11.21 FEET; THENCE SOUTH 71°34′43″ EAST, 52.68 FEET TO THE WEST LINE OF THE EAST 50.00 FEET OF SAID LOT; THENCE ALONG LAST SAID WEST LINE SOUTH 00°05′37″ WEST, 28.51 FEET TO THE SOUTHERLY LINE OF SAID LOT; THENCE ALONG SAID SOUTHERLY LINE, NORTH 71°34′04″ WEST, 84.30 FEET TO THE SOUTHWEST CORNER OF SAID LOT 104 AND THE POINT OF BEGINNING. ALSO EXCEPTING THEREFROM, THE EASTERLY 50.00 FEET OF SAID LOT 104.

PARCEL 68: (PARCEL 4—APN: 687-208-026)

THE EAST 50.00 FEET OF LOT 104 OF CATHEDRAL CITY, AS SHOWN BY MAP ON FILE IN BOOK 13, PAGE 24 THROUGH 26 OF MAPS, RECORDS OF RIVERSIDE COUNTY, CALIFORNIA.

EXCEPTING THEREFROM, THE FOLLOWING DESCRIBED PARCEL OF LAND: BEGINNING AT THE SOUTHEAST CORNER OF SAID LOT 104; THENCE ALONG THE EAST LINE OF SAID LOT, NORTH 00°05′42″ EAST, 27.78 FEET TO A NON-TANGENT CURVE CONCAVE SOUTHWESTERLY AND HAVING A RADIUS OF 235.84 FEET, A RADIAL LINE OF SAID CURVE THROUGH SAID POINT BEARS NORTH 22°26′25″ EAST; THENCE NORTHWESTERLY ALONG SAID CURVE, THROUGH A CENTRAL ANGLE OF 03°14′22″, AN ARC DISTANCE OF 13.33 FEET TO THE BEGINNING OF A COMPOUND CURVE CONCAVE SOUTHWESTERLY AND HAVING A RADIUS OF 1,494.89 FEET; THENCE NORTHWESTERLY ALONG SAID CURVE, THROUGH A CENTRAL ANGLE OF 00°46′46″, AN ARC DISTANCE OF 20.33 FEET; THENCE NORTH 71°34′43″ WEST, 19.26 FEET TO THE WEST LINE OF THE EASTERLY 50.00 FEET OF SAID LOT 104; THENCE ALONG LAST SAID WEST LINE SOUTH 00°05′37″ WEST, 28.51 FEET TO THE SOUTHERLY LINE OF SAID LOT; THENCE ALONG SAID SOUTHERLY LINE, SOUTH 71°34′04″ EAST, 52.69 FEET TO THE SOUTHEAST CORNER OF SAID LOT 104 AND THE POINT OF BEGINNING.

Authority: This notice is published in the exercise of authority delegated by the Secretary of the Interior to the Assistant Secretary—Indian Affairs by 209 Departmental Manual 8.1, and is published to comply with the requirements of 25 CFR 151.12 (c)(2)(ii) that notice of the decision to acquire land in trust be promptly provided in the Federal Register.

Dated: November 1, 2019.
Tara Sweeney,
Assistant Secretary—Indian Affairs.

[FR Doc. 2019-24361 Filed 11-7-19; 8:45 am]

BILLING CODE 4337-15-P